DEPARTMENT OF THE INTERIOR

Bureau of Land Management

[LLORW00000.L17110000.AL0000. 15XL1109AF.HAG15-0048]

Meeting of the San Juan Islands National Monument Advisory Committee

AGENCY: Bureau of Land Management, Interior.

ACTION: Notice of public meeting.

SUMMARY: In accordance with the Federal Land Policy and Management Act and the Federal Advisory Committee Act, the Bureau of Land Management's (BLM) San Juan Islands National Monument Advisory Committee (MAC) will meet as indicated below.

DATES: The MAC will meet Thursday, January 22, 2015, from 10:15 a.m.-3:45 p.m. at the San Juan Island Grange, 152 N 1st Street, Friday Harbor, Washington 98250. The meeting will include a “virtual fieldtrip” of the different resources on the Monument, a review of the March 25, 2013 Presidential Proclamation and the Monument Resource Management Plan's (RMP) draft purpose and needs, a discussion of the current Analysis of the Management Situation, and finalization of the RMP's vision statement and plan for public scoping forums. The meeting will conclude with a public comment period.

FOR FURTHER INFORMATION CONTACT: Marcia deChadenèdes, San Juan Islands National Monument Manager, P.O. Box 3, 37 Washburn Ave., Lopez Island, Washington 98261, (360) 468-3051, or mdechade@blm.gov. Persons who use a telecommunications device for the deaf (TDD) may call the Federal Information Relay Service (FIRS) at 1(800) 877-8339 to contact the above individual during normal business hours. The FIRS is available 24 hours a day, 7 days a week, to leave a message or question with the above individual. You will receive a reply during normal business hours.

SUPPLEMENTARY INFORMATION: The twelve member San Juan Islands MAC was chartered to provide information and advice regarding the development of the San Juan Islands National Monument's RMP. Members represent an array of stakeholder interests in the land and resources from within the local area and statewide. Planned agenda items include training on the Federal Advisory Committee Act, advisory committee procedures, the RMP process, MAC goal setting, and a collaborative project on public outreach. On January 22, 2015, at 2:45 p.m., members of the public will have the opportunity to make comments to the MAC during a one-hour public comment period. All advisory committee meetings are open to the public. Persons wishing to make comments during the public comment period should register in person with the BLM by 2 p.m. on January 22, 2015, at the meeting location. Depending on the number of persons wishing to comment, the length of comments may be limited. The public may send written comments to the MAC at San Juan Islands National Monument, Attn. MAC, P.O. Box 3, 37 Washburn Ave., Lopez Island, Washington 98261. The BLM appreciates all comments.

Daniel C. Picard,
Spokane District Manager.

[FR Doc. 2014-29642 Filed 12-17-14; 8:45 am]

BILLING CODE 4310-33-P